DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Utah Transit Authority

[Supplement to Waiver Docket Number FRA-1999-6253]

As a supplement to the Utah Transit Authority's (UTA) Petition for Approval of Shared Use and Waiver of Certain FRA Regulations (the original shared use waiver was granted by the FRA Railroad Safety Board on August 19, 1999, for the Sandy/Salt Lake TRAX LRT line), UTA is amending the terms and conditions of the original waiver by constructing the Daybreak/Test Track Segment portion of the Mid-Jordan LRT line extension of the Sandy/Salt Lake TRAX LRT line. This Test Track will be an exclusive light rail segment, featuring a limited connection to the general freight system at an interlocking. UTA submits that this request is consistent with the waiver process for Shared Use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

UTA is expanding its original Sandy/Salt Lake TRAX LRT line by building the 10.6-mile Mid-Jordan LRT line extension on the active Union Pacific Railroad (UPRR) Bingham Branch, which is a single track used solely for freight operations. As part of this Mid-Jordan extension, UTA will reconstruct this existing track and add a new parallel track. This construction will allow that portion of the Mid-Jordan LRT line that runs on the Bingham Branch to utilize two (2) tracks for light rail operations during the temporally separated passenger period. UPRR will continue to operate on the Bingham Branch only during the freight period. UTA anticipates petitioning FRA at a future date for a supplemental waiver of compliance from certain portions of Title 49 of the CFR for shared use temporal separation operations on this Mid-Jordan LRT line extension.

This petition pertains to UTA's intent to first construct an initial 2-mile portion of this Mid-Jordan extension called the Daybreak/Test Track Segment, which will be used exclusively by UTA TRAX LRT equipment. This track initially will be used to commission new LRV equipment and to train LRV operators. This Daybreak/Test Track segment will be an exclusive light rail portion of the Mid-Jordan LRT line extension, with a limited connection to UPRR Bingham Branch at address 5600 West. This connection will be composed of four electrically locked hand throw switches interlocked with UTA's Signal & Train Control System. In addition to this, UTA will temporarily employ portable derail devices to separate any possible incursions of UPRR equipment onto this Daybreak/Test Track equipment. Derails will be permanently removed once UTA has completed testing and begun pre-revenue service on the entire Mid-Jordan line.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-6253) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on January 19, 2010.
Grady C. Cothen, Jr.,
Deputy Associate Administrator for Safety Standards and Program Development.

[FR Doc. 2010-1236 Filed 1-22-10; 8:45 am]

BILLING CODE 4910-06-P